DEPARTMENT OF TRANSPORTATION

Surface Transportation Board

[STB Ex Parte No. 589]

Calculation of Variable Costs in Rate Complaint Proceedings Involving Non-Class I Railroads

AGENCY: Surface Transportation Board, Transportation.

ACTION: Policy Statement.

SUMMARY: The Surface Transportation Board concludes that it will determine the variable costs of non-Class I railroads in rail rate reasonableness cases using Class I railroad regional average costs and making appropriate adjustments to those average costs on a case-by-case basis.

EFFECTIVE DATE: This policy is effective April 27, 2003.

FOR FURTHER INFORMATION CONTACT: Rachel D. Campbell (202) 565-1568. [Federal Information Relay Service (FIRS) for the hearing impaired: 1-800-877-8339.]

SUPPLEMENTARY INFORMATION: Additional information is contained in the Board's decision. Copies of the Board's decision may be purchased from Dā-2-Dā Legal Copy Service by calling (202) 293-7776 (assistance for the hearing impaired is available through FIRS at 1-800-877-8339) or visiting Suite 405, 1925 K Street, NW., Washington, DC 20423.

Board decisions and notices are available on our Web site at http://www.stb.dot.gov.

Decided: March 21, 2003.
By the Board, Chairman Nober and Commissioner Morgan.
Vernon A. Williams,
Secretary.

[FR Doc. 03-7334 Filed 3-27-03; 8:45 am]

BILLING CODE 4915-00-P